ENVIRONMENTAL PROTECTION AGENCY

[FRL-9517-1]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1695.11; Emissions Certification and Compliance Requirements for Nonroad Spark-ignition Engines (Transfer Burden from 2060-0603); 40 CFR parts 1048, 1051, 1065 and 1068; was approved on 04/03/2012; OMB Number 2060-0338; expires on 08/31/2012; Approved without change.

EPA ICR Number 1957.06; NESHAP for Metal Coil Surface Coating Plants; 40 CFR part 63 subparts A and SSSS; was approved on 04/04/2012; OMB Number 2060-0487; expires on 04/30/2015; Approved without change.

EPA ICR Number 1831.05; NESHAP for Ferroalloys Production: Ferromanganese and Silicomanganese; 40 CFR part 63 subparts A and XXX; was approved on 04/04/2012; OMB Number 2060-0391; expires on 04/30/2015; Approved without change.

EPA ICR Number 2381.02; ICR for the Final Rule entitled “Lead; Clearance and Clearance Testing Requirements for the Renovation, Repair, and Painting Program”; 40 CFR part 745; was approved on 04/06/2012; OMB Number 2070-0181; expires on 04/30/2015; Approved with change.

EPA ICR Number 2294.03; NESHAP for Plating and Polishing Area Sources; 40 CFR part 63 subparts A and WWWWWW; was approved on 04/12/2012; OMB Number 2060-0623; expires on 04/30/2015; Approved without change.

EPA ICR Number 1983.06; NESHAP for Carbon Black, Ethylene, Cyanide, and Spandex; 40 CFR part 63 subparts A and YY; was approved on 04/12/2012; OMB Number 2060-0489; expires on 04/30/2015; Approved without change.

EPA ICR Number 1669.06; Lead-Based Paint Pre-Renovation Information Dissemination—TSCA Sec. 406(b); 40 CFR part 745 subpart E; was approved on 04/20/2012; OMB Number 2070-0158; expires on 04/30/2015; Approved without change.

EPA ICR Number 2258.03; PM 2.5 NAAQS Implementation Rule (Renewal); 40 CFR 51.1000-51.1012; was approved on 04/19/2012; OMB Number 2060-0611; expires on 04/30/2015; Approved with change.

EPA ICR Number 2159.05; Background Checks for Contractor Employees (Renewal); 5 CFR parts 731, 732 and 736; was approved on 04/24/2012; OMB Number 2030-0043; expires on 04/30/2015; Approved without change.

EPA ICR Number 0969.09; Final Authorization for Hazardous Waste Management Programs (Renewal); 40 CFR 271.5-271.8, 271.20, 271.21 and 271.23; was approved on 04/24/2012; OMB Number 2050-0041; expires on 04/30/2015; Approved without change.

EPA ICR Number 2183.05; Drug Testing for Contractor Employees (Renewal); 5 CFR parts 731, 732 and 736; was approved on 04/24/2012; OMB Number 2030-0044; expires on 04/30/2015; Approved without change.

EPA ICR Number 1352.12; Community Right-to-Know Reporting Requirements Under Sections 311 and 312 of the Emergency Planning and Community Right-to-Know Act (EPCRA) (Renewal); 40 CFR part 370; was approved on 04/24/2012; OMB Number 2050-0072; expires on 04/30/2015; Approved with change.

EPA ICR Number 1608.06; State Program Adequacy Determination: Municipal Solid Waste Landfills (MSWLFs) and Non-Municipal, Non-Hazardous Waste Disposal Units that Receive * * *; 40 CFR parts 239, 257 and 258; was approved on 04/24/2012; OMB Number 2050-0152; expires on 04/30/2015; Approved without change.

EPA ICR Number 2002.05; Cross-Media Electronic Reporting and Recordkeeping Rule (Renewal); 40 CFR part 3; was approved on 04/24/2012; OMB Number 2025-0003; expires on 04/30/2015; Approved without change.

EPA ICR Number 2303.03; NESHAP for Ferroalloys Production Area Sources; 40 CFR part 63 subparts A and YYYYYY; was approved on 04/24/2012; OMB Number 2060-0625; expires on 04/30/2015; Approved without change.

EPA ICR Number 1658.07; Control Technology Determination for Constructed or Reconstructed Major Sources of Hazardous Air Pollutants; 40 CFR part 63 subpart B; was approved on 04/24/2012; OMB Number 2060-0373; expires on 04/30/2015; Approved without change.

EPA ICR Number 1055.10; NSPS for Kraft Pulp Mills; 40 CFR part 60 subparts A and BB; was approved on 04/24/2012; OMB Number 2060-0021; expires on 04/30/2015; Approved without change.

EPA ICR Number 1789.07; NESHAP for Natural Gas Transmission and Storage; 40 CFR part 63 subparts A and HHH; was approved on 04/24/2012; OMB Number 2060-0418; expires on 04/30/2015; Approved without change.

EPA ICR Number 2207.04; Exchange Network Grants Progress Reports (Renewal); was approved on 04/24/2012; OMB Number 2025-0006; expires on 04/30/2015; Approved without change.

EPA ICR Number 2137.06; NESHAP for Coal- and Oil-fired Electric Utility Steam Generating Units; 40 CFR part 63 subparts A and UUUUU; was approved on 04/25/2012; OMB Number 2060-0567; expires on 04/30/2015; Approved without change.

EPA ICR Number 1710.06; Residential Lead-Based Paint Hazard Disclosure Requirements (Renewal); 24 CFR part 35 subpart H; and 40 CFR part 745 subpart F; was approved on 04/25/2012; OMB Number 2070-0151; expires on 04/30/2015; Approved with change.

Comment Filed

EPA ICR Number 2323.03; Reconsideration of Chemical Manufacturing Area Sources National Emission Standards for Hazardous Air Pollutants (Proposed Rule); in 40 CFR part 63 subparts A and subpart VVVVVV; OMB filed comment on 04/04/2012.

EPA ICR Number 2453.01; NESHAP for Secondary Aluminum Production; in 40 CFR part 63 subparts A and RRR; OMB filed comment on 04/04/2012.

EPA ICR Number 1611.09; NESHAP for Chromium Emissions from Hard and Decorative Chromium Electroplating and Chromium Anodizing Tanks; in 40 CFR part 63 subparts A and N; OMB filed comment on 04/04/2012.

EPA ICR Number 2455.01; Revision to the Export Provisions of the Cathode Ray Tube (CRT) Rule (Proposed Rule); in 40 CFR 261.39 and 261.41; OMB filed comment on 04/24/2012.

John Moses,
Director, Collections Strategies Division.

[FR Doc. 2012-11947 Filed 5-16-12; 8:45 am]

BILLING CODE 6560-50-P